FEDERAL DEPOSIT INSURANCE CORPORATION

[OMB No. 3064-0085; -0149; -0194]

Agency Information Collection Activities: Proposed Collection Renewal; Comment Request

AGENCY: Federal Deposit Insurance Corporation (FDIC).

ACTION: Notice and request for comment.

SUMMARY: The FDIC, as part of its obligations under the Paperwork Reduction Act of 1995, invites the general public and other Federal agencies to take this opportunity to comment on the request to renew the existing information collections described below (OMB Control No. 3064-0085; -0149; -0194). The notices of the proposed renewal for these information collections were previously published in the Federal Register on November 15, 2023, allowing for a 60-day comment period.

DATES: Comments must be submitted on or before February 21, 2024.

ADDRESSES: Interested parties are invited to submit written comments to the FDIC by any of the following methods:

• Agency Website: https://www.fdic.gov/resources/regulations/federal-register-publications/.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street NW building (located on F Street NW), on business days between 7:00 a.m. and 5:00 p.m.

Written comments and recommendations for the proposed information collection should be sent within 30 days of publication of this notice to www.reginfo.gov/public/do/PRAMain. Find this particular information collection by selecting “Currently under 30-day Review—Open for Public Comments” or by using the search function.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION:

Proposal to renew the following currently approved collection of information:

1. Title: Recordkeeping and Disclosure Requirements in Connection With Regulation B (Equal Credit Opportunity).

OMB Number: 3064-0085.

Affected Public: Insured state nonmember banks and state savings associations.

Burden Estimate:

Table 1—Summary of Estimated Annual Burden
[OMB No. 3064-0085]
Information collection (obligation to respond) | Type of burden (frequency of response) | Number of respondents | Number of responses per respondent | Time per response (HH:MM) | Annual burden (hours)
1. Record Retention (Applications, Actions, Pre-Screened Solicitations) (1002.12) (Mandatory) | Recordkeeping (On Occasion) | 2,917 | 1,333 | 00:03 | 194,418
2. Record Retention (Self-Testing) (1002.12(b)(6)) (Mandatory) | Recordkeeping (On Occasion) | 1 | 1 | 00:03 | 0
3. Credit Reporting History (1002.10) (Mandatory) | Reporting (Monthly) | 2,917 | 12 | 00:01 | 583
4. Demographic Information Collected for Monitoring Purposes (1002.13 (a) & (b)) (Mandatory) | Reporting (Annual) | 2,917 | 276 | 00:01 | 13,418
5. Disclosure for Optional Self-Test (1002.5) (Mandatory) | Disclosure (On Occasion) | 1 | 92 | 00:02 | 3
6. Notification of Action (1002.9) (Mandatory) | Disclosure (On Occasion) | 2,917 | 333 | 00:03 | 48,568
7. Appraisal Report (1002.14(a)(1)) (Mandatory) | Disclosure (On Occasion) | 2,917 | 276 | 00:03 | 40,255
8. Notice of Right to Appraisal (1002.14(a)(2)) (Mandatory) | Disclosure (On Occasion) | 2,917 | 276 | 00:01 | 13,418
9. Recordkeeping of Credit Applications from Small Businesses (1002.107(a)) (Mandatory) | Recordkeeping (On Occasion) | 1,612 | 873 | 00:10 | 234,546
10. Initial implementation of System to Support Requirements in IC 9 (Mandatory) | Recordkeeping (One-time) | 973 | 1 | 456:00 | 443,688
11. Record Retention of Small Business Lending Data (1002.111) (Mandatory) | Recordkeeping (Annual) | 1,612 | 1 | 00:10 | 269
12. Reporting Small Business Lending Data to CFPB (1002.109) (Mandatory) | Reporting (Annual) | 639 | 1 | 120:00 | 76,680
13. Initial Implementation Activities to Support Requirements in IC 12 (Mandatory) | Reporting (One-time) | 601 | 1 | 40:00 | 24,040
14. Notice of Nondiscrimination to Applicants (1002.107) (Mandatory) | Disclosure (On Occasion) | 1,612 | 873 | 0:01 | 23,455
15. Initial implementation Activities for Requirements in IC 14 (Mandatory) | Disclosure (One-time) | 973 | 1 | 40:00 | 38,920
16. “Firewall” Exception Notification (1002.108) (Required to obtain benefit) | Disclosure (On Occasion) | 967 | 873 | 0:01 | 14,070
17. Initial Implementation Activities for Requirements in IC 16 (Required to obtain benefit) | Disclosure (One-time) | 322 | 1 | 40:00 | 12,880
18. Website Disclosure of Small Business Lending Data (1002.110(c ) & (d)) (Mandatory) | Disclosure (One-time) | 601 | 1 | 8:00 | 4,808
Total Annual Burden (Hours) |  |  |  |  | 1,184,019
Source: FDIC.
Note: The annual burden estimate for a given collection is calculated in two steps. First, the total number of annual responses is calculated as the whole number closest to the product of the annual number of respondents and the annual number of responses per respondent. Then, the total number of annual responses is multiplied by the time per response and rounded to the nearest hour to obtain the estimated annual burden for that collection. This rounding ensures the annual burden hours in the table are consistent with the values recorded in the OMB's regulatory tracking system.

General Description of Collection: Regulation B (12 CFR part 1002), issued by the Consumer Financial Protection Bureau (“CFPB”), prohibits creditors from discriminating against applicants on any bases specified by the Equal Credit Opportunity Act; imposes reporting, record keeping and disclosure requirements; establishes guidelines for gathering and evaluating credit information; and requires creditors to give applicants certain written notices.

The information collection is being revised to include 10 new information collection requirements created by subpart B, (sections 1002.101-1002.114),¹ which addresses lending to small businesses. The total estimated annual burden for this information collection is 1,184,019 hours, which represents an increase of 734,884 hours relative to the estimate of 449,135 reported by the OMB in 2021. The increase is primarily attributable to the inclusion of 10 new information collections introduced by subpart B, (sections 1002.101-1002.114) of the final rule issued by the CFPB in May 2023.

¹ See the final rule issued by the Consumer Financial Protection Bureau, “Small Business Lending Under the Equal Credit Opportunity Act” at 88 FR 35150 (May 31, 2023).

2. Title: Affiliate Marketing/Consumer Opt-out Notices.

OMB Number: 3064-0149.

Forms: None.

Affected Public: Insured state nonmember banks and state savings associations that have affiliates and consumers that have a relationship with the foregoing.

Burden Estimate:

Summary of Estimated Annual Burden
[OMB No. 3064-0149]
Information collection (obligation to respond) | Type of burden (frequency of response) | Number of respondents | Number of responses per respondent | Time per response (HH:MM) | Annual burden (hours)
Affiliate Marketing Disclosure—Implementation. (Mandatory) | Third-Party Disclosure (Annual) | 8 | 1 | 06:00 | 144
Consumer Opt Out Notices (Voluntary) | Third-Party Disclosure (Annual) | 857,027 | 1 | 00:05 | 71,419
Affiliate Marketing Disclosure—Ongoing (Mandatory) | Third-Party Disclosure (Annual) | 990 | 1 | 02:00 | 1,980
Total Annual Burden (Hours) |  |  |  |  | 73,543
Source: FDIC.

General Description of Collection: Section 214 of the FACT Act requires financial institutions that wish to share information about consumers with their affiliates, to inform such consumers that they have the opportunity to opt out of such marketing solicitations. The disclosure notices and consumer responses thereto comprise the elements of this collection of information. There is no change in the method or substance of the collection.

3. Title: Covered Financial Company Asset Purchaser Eligibility Certification.

OMB Number: 3064-0194.

Forms: 7300/10.

Affected Public: Any individual or entity that is a potential purchaser of assets from (1) the FDIC as receiver for a Covered Financial Company (CFC); or (2) a bridge financial company (BFC) which requires the approval of the FDIC, as receiver for the predecessor CFC and as the sole shareholder of the BFC (e.g., the BFC's sale of a significant business line).

Burden Estimate:

Summary of Estimated Annual Burden
[OMB No. 3064-0194]
Information collection (obligation to respond) | Type of burden (frequency of response) | Number of respondents | Number of responses per respondent | Time per response (HH:MM) | Annual burden (hours)
Covered Financial Company Asset Sales Purchaser Eligibility Certification | Reporting | 66 | 1 | 02:30 | 165
Total Annual Burden (Hours) |  |  |  |  | 165
Source: FDIC.

General Description of Collection: The Covered Financial Company (CFC) Asset Purchaser Eligibility implements the statutory requirement that assets held by the FDIC in the course of liquidating any covered financial company not be sold to persons who contributed in specified ways to the demise of a covered financial company. The FDIC implemented this requirement in its regulations at 12 CFR 380.13. Prospective purchasers are required to complete and submit a Purchaser Eligibility Certification (PEC) to the FDIC. The PEC is a self-certification by a prospective purchaser that it does not fall into any of the categories of individuals or entities that are prohibited by statute or regulation from purchasing assets of a CFC. The PEC will be required of any individual or entity that is a potential purchaser of assets from the FDIC, whether in its corporate capacity or as a conservator or receiver, for (1) a CFC; or (2) a Bridge Financial Company (BFC).

The FDIC is increasing the total burden associated with this collection from 5 hours to 165 hours. The estimate for the number of respondents has increased from 10 to 66. The responses per respondent is unchanged from the 2021 submission. The estimate for hours per response represents a 1.5-hour increase from the 2021 submission. This increase is due to a change in calculation methodology.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Federal Deposit Insurance Corporation.
Dated at Washington, DC, on January 16, 2024.
James P. Sheesley,
Assistant Executive Secretary.

[FR Doc. 2024-01092 Filed 1-19-24; 8:45 am]

BILLING CODE 6714-01-P